NUCLEAR REGULATORY COMMISSION

Advisory Committee on Reactor Safeguards (ACRS); Meeting of the ACRS Subcommittee on U.S. Advanced Pressurized Power Reactor

Revision to the June 19, 2012, ACRS Meeting Federal Register Notice

The Federal Register Notice for the ACRS Subcommittee Meeting on US-APWR scheduled to be held on July 9, 2012, is being revised to notify the following:

The entire meeting will be open to public attendance, with the exception of a portion that may be closed to protect information that is proprietary pursuant to 5 U.S.C. 552b(c)(4).

The notice of this meeting was previously published in the Federal Register on Tuesday, June 19, 2012 [77 FR 36581-36582].

Further information regarding this meeting can be obtained by contacting Mr. Girija Shukla, Designated Federal Official (Telephone: 301-415-6855, Email: Girija.Shukla@nrc.gov) between 8:15 a.m. and 5 p.m. (ET).

Dated: June 19, 2012.
Antonio Dias,
Technical Advisor, Advisory Committee on Reactor Safeguards.

[FR Doc. 2012-15526 Filed 6-25-12; 8:45 am]

BILLING CODE 7590-01-P